DEPARTMENT OF JUSTICE

Notice of Lodging of Proposed Consent Decree Under the Clean Water Act

On November 20, 2012, the Department of Justice lodged a proposed Consent Decree with the United States District Court for the Southern District of Mississippi in the lawsuit entitled United States and State of Mississippi v. City of Jackson, Mississippi, Civil Action No. 3:12-cv-790 TSL.

The proposed Consent Decree would resolve certain claims under Sections 301, 309, and 402 of the Clean Water Act, 33 U.S.C. 1251, et seq. and under the Mississippi Air and Water Pollution Control Law (“MAWPCL”) (Miss. Code Ann. §§ 49-17-1 through 49-17-45), against the City of Jackson, Mississippi (“City” or “Jackson”), through the performance of injunctive measures, the payment of a civil penalty, and the performance of a Supplemental Environmental Project (“SEP”). The United States and the State of Mississippi allege that the City is liable as a person who has discharged a pollutant from a point source to navigable waters of the United State without a permit and, in some cases, in excess of permit limitations.

The proposed Consent Decree would resolve the liability of Jackson for the violations alleged in the complaint filed in this matter. To resolve these claims, Jackson would perform the injunctive measures as described in the proposed Consent Decree. More specifically, the proposed Consent Decree will require Jackson to implement comprehensive injunctive relief to assess and rehabilitate a majority of its collection system within approximately 18 years to eliminate wet weather/capacity-related Sanitary Sewer Overflows (“SSOs”) and develop and implement specific management, operation, and maintenance (“MOM”) programs that EPA determined were missing or deficient. The goal of the injunctive relief required under the proposed Consent Decree is to ensure Jackson's compliance with water quality standards and the Clean Water Act.

The publication of this notice opens a period for public comment on the proposed Consent Decree. Comments should be addressed to the Assistant Attorney General, Environment and Natural Resources Division, and should refer to United States & State of Mississippi v. City of Jackson, Mississippi, D.J. Ref. No. 90-5-1-1-09841. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $95.75 (25 cents per page reproduction cost) payable to the United States Treasury. For a paper copy without the exhibits, the cost is $26.50.

Henry Friedman,
Assistant Section Chief, Environmental Enforcement Section, Environment and Natural Resources Division.

[FR Doc. 2012-29070 Filed 11-30-12; 8:45 am]

BILLING CODE 4410-15-P